Title 3—

The President

Proclamation 7801 of July 2, 2004

Returning the Flag of the United States to Full-Staff

By the President of the United States of America

A Proclamation

By the authority vested in me as President of the United States by the Constitution and the laws of the United States of America, and in honor and tribute to the memory of Ronald Reagan, it is hereby ordered that the flag of the United States shall be displayed at full-staff at the White House and on all buildings, grounds, and Naval vessels of the United States beginning July 3, 2004. I also direct that beginning on that same date, the representatives of the United States in foreign countries shall make similar arrangements for the display of the flag at full-staff over their Embassies, Legations, and other facilities abroad, including all military facilities and stations.

IN WITNESS WHEREOF, I have hereunto set my hand this second day of July, in the year of our Lord two thousand four, and of the Independence of the United States of America the two hundred and twenty-eighth.

B

[FR Doc. 04-15647

Filed 7-7-04; 8:45 am]

Billing code 3195-01-P